DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: Patent No. 7,102,665: VEHICLE UNDERBODY IMAGING SYSTEM//Patent No. 7,102,814: PERSONAL PORTABLE BLANKETS AS AN INFRARED SHIELDING DEVICE FOR FIELD ACTIVITIES//Patent No. 7,103,614: AUTOMATIC VEHICLE INFORMATION RETRIEVAL FOR USE AT ENTRY TO A SECURE SITE//Patent No. 7,113,447: LASER PUMPED COMPACT ACOUSTIC SENSOR SYSTEM//Patent No. 7,162,943: CAVITATING EXPLOSIVELY AUGMENTED WATER-JET MINE CUTTER SYSTEM//Patent No. 7,164,618: DUAL UNIT EIDETIC TOPOGRAPHER//Patent No. 7,164,787: ENHANCING TWO-DIMENSIONAL CONTRAST IMAGES RENDERED FROM THREE-DIMENSIONAL STREAK TUBE IMAGING LIDAR (STIL) DATA//Patent No. 7,164,788: ENHANCING TWO-DIMENSIONAL RANGE IMAGES RENDERED FROM THREE-DIMENSIONAL STREAK TUBE IMAGING LIDAR (STIL) DATA//Patent No. 7,203,339: ENHANCING TWO-DIMENSIONAL CONTRAST AND RANGE IMAGES RENDERED FROM THREE DIMENSIONAL STREAK TUBE IMAGING LIDAR (STIL) DATA//Patent No. 7,213,409: RECONFIGURABLE HYDROGEN TRANSFER HEATING/COOLING SYSTEM//Patent No. 7,213,497: INFLATABLE TRAJECTORY ALTERING AND BLAST ENERGY ABSORPTION SYSTEM// Patent No. 7,215,826: RENDERING THREE-DIMENSIONAL STREAK TUBE IMAGING LIDAR (STIL) DATA TO TWO-DIMENSIONAL CONTRAST AND RANGE MAPPINGS THEREOF//Patent No. 7,216,897: ACTIVE TORQUE REDUCTION FOR HYDRAULICALLY FILLED JOINTS//Patent No. 7,233,346: DIFFERENTIAL IMAGING METHOD AND SYSTEM// Patent No. 7,236,201: METHOD OF GENERATING AN IMAGE IN A TURBID MEDIUM.

ADDRESSES: Requests for copies of the patents cited should be directed to Office of Counsel, Naval Surface Warfare Center Panama City, 110 Vernon Ave., Panama City, FL 32407-7001.

FOR FURTHER INFORMATION CONTACT: Mr. James Shepherd, Patent Counsel, Naval Surface Warfare Center Panama City, 110 Vernon Ave., Panama City, FL 32407-7001, telephone: 850-234-4646.

Authority: 35 U.S.C. 207, 37 CFR part 404.

Dated: August 17, 2007.
T.M. Cruz,
Lieutenant, Judge Advocate General's Corps, U.S. Navy, Federal Register Liaison Officer.

[FR Doc. E7-16654 Filed 8-22-07; 8:45 am]

BILLING CODE 3810-FF-P